ENVIRONMENTAL PROTECTION AGENCY

40 CFR Part 52

[MD112-3066; FRL-7043-7]

Approval and Promulgation of Air Quality Implementation Plans; Maryland; Control of VOC Emissions From Distilled Spirits Facilities

AGENCY: Environmental Protection Agency (EPA).

ACTION: Proposed rule.

SUMMARY: EPA is proposing to approve a State Implementation Plan (SIP) revision submitted by the State of Maryland. The revision establishes reasonably available control technology (RACT) requirements to reduce emissions of volatile organic compounds (VOC) from distilled spirits facilities. The intended effect of this action is to propose approval of Maryland's proposed revised regulation to reduce VOC emissions from distilled spirits facilities. This action is being taken under the Clean Air Act. EPA is also withdrawing its earlier proposal to approve Maryland's regulation for the control of VOC emissions from distilled spirits facilities, published in the Federal Register on May 22, 2001.

DATES: Written comments must be received on or before September 26, 2001.

ADDRESSES: Written comments may be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland.

FOR FURTHER INFORMATION CONTACT: Rose Quinto, (215) 814-2182, or via e-mail at quinto.rose@epamail.epa.gov.

SUPPLEMENTARY INFORMATION:

I. Background

On November 13, 2000, the State of Maryland submitted formal revisions to its SIP. These SIP revisions, submitted by the Maryland Department of the Environment (MDE), consisted of Code of Maryland Regulations (COMAR) 26.11.19.29, Control of Volatile Organic Compounds from Distilled Spirits Facilities. The State of Maryland had adopted COMAR 26.11.19.29 to establish and impose RACT to reduce VOC from distilled spirits facilities.

On May 22, 2001 (66 FR 23138), EPA proposed to approve COMAR 26.11.19.29, Control of Volatile Organic Compound from Distilled Spirits Facilities as a SIP revision. EPA received an adverse comment on that proposal. Subsequent to EPA's proposing approval of COMAR 26.11.19.29, MDE informed EPA of its intent to revise that regulation. Because EPA is withdrawing its proposed approval of the un-revised version of COMAR 26.11.19.29, EPA does not address the substance of that adverse comment in this current rulemaking. EPA will receive comments on this proposal to approve a revised version of COMAR 26.11.19.29 as a SIP revision. With respect to this current rulemaking, EPA will only consider newly submitted comments, if any.

II. Summary of Maryland's Proposed SIP Revision and EPA's Evaluation

On July 2, 2001, the MDE requested that EPA parallel process its approval of the proposed revised version of COMAR 26.11.19.29, Control of Volatile Organic Compounds from Distilled Spirits Facilities. The proposed revised regulation still imposes RACT for the control of VOC emissions from distilled spirits facilities. To expedite the approval of this regulation as a revision to the Maryland SIP, EPA is using the parallel rulemaking process to propose approval of Maryland's amended regulation concurrently with the State's own process for adopting the amended version of COMAR 26.11.19.29. On August 10, 2001, the MDE proposed the revised version of COMAR 26.11.19.29, Control of Volatile Organic Compounds from Distilled Spirits Facilities, in the Maryland Register.

A. Summary of Maryland's Regulation

The regulation at COMAR 26.11.19.29 establishes RACT to control VOC emissions from distilled spirits facilities that have the total potential to emit 25 tons or more of VOCs per year. Distilled spirits facilities receive bulk liquor by train or tank truck, transfer the liquor into wood barrels to age, and bottle and package the final product. The aging process is the primary source of fugitive VOC emissions which are mostly ethanol and are caused by the breathing of the barrels. Fugitive VOCs are also discharged when filling and emptying barrels, during the blending and bottling operations, and during the storage of empty barrels. Maryland's regulation includes definitions for the terms “aging warehouse”, “bottling operation”, “distilled spirits”, “distilled spirits facility” and “automated filing system”. The RACT to control VOC emissions include requirements that subject facilities must empty barrels using a pump-operated, bayonet-type suction device, or comparably effective device that minimizes VOC evaporative losses when emptying barrels; drain distilled spirits from filter plates that are located between the barrel unloading and storage tanks to either a recycling tank or to an enclosed collection system; and use a gravity and vacuum or pressure filling system or comparably effective system to minimize fugitive emissions from the bottling operations. The regulation further that during the warmer weather, used barrels that are stored in the outdoors awaiting disposal shall be periodically (at least weekly) wetted down to reduce potential leakage and fugitive emissions. The regulation also requires that subject facilities submit to MDE, for approval, a good operating practices manual to minimize fugitive VOC emissions from the aging warehouse, and other operations.

B. EPA's Evaluation

EPA has not issued a control technique guideline recommending RACT for control of VOC emissions generated from distilled spirits facilities. Having reviewed COMAR 26.11.19.29, Control of Volatile Organic Compounds from Distilled Spirits Facilities, EPA believes the VOC control requirements of COMAR 26.11.19.29 are both reasonable and constitute RACT to control VOC from distilled spirits facilities. The regulation satisfies sections 182 and 184 of the Clean Air Act and strengthens the Maryland SIP.

III. Proposed Action

EPA is proposing to approve COMAR 26.11.19.29, Control of Volatile Organic Compounds from Distilled Spirits Facilities, as submitted by the State of Maryland on July 2, 2001, as a revision to the Maryland SIP. This revision is being proposed under a procedure called parallel processing, whereby EPA proposes rulemaking action concurrently with the State's procedures for amending its regulations. If the proposed revision is substantially changed, EPA will evaluate those changes and may publish another notice of proposed rulemaking. If no substantial changes are made, EPA will publish a Final Rulemaking Notice on the revisions. The final rulemaking action by EPA will occur only after the SIP revision has been adopted by Maryland and submitted formally to EPA for incorporation into the SIP. EPA is soliciting public comments on the issues discussed in this notice or on other relevant matters. These comments will be considered before taking final action. Interested parties may participate in the Federal rulemaking procedure by submitting written comments to the EPA Regional office listed in the ADDRESSES section of this notice.

IV. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This proposed rule to approve Maryland's RACT requirements to reduce VOC from distilled spirits facilities does not impose an information collection burden under the provisions of the Paperwork Reduction Act of 1995 (44 U.S.C. 3501 et seq.).

List of Subjects in 40 CFR Part 52

Environmental protection, Air pollution control, Hydrocarbons, Ozone, Reporting and recordkeeping requirements.

Authority: 42 U.S.C. 7401 et seq.

Dated: August 16, 2001.
Donald S. Welsh,
Regional Administrator, Region III.

[FR Doc. 01-21560 Filed 8-24-01; 8:45 am]

BILLING CODE 6560-50-P